DEPARTMENT OF THE INTERIOR

National Park Service

[NPS-PPMWSTGE00.PPMPSPD1Z.YM0000]

Ste. Genevieve National Historical Park

AGENCY: National Park Service, Interior.

ACTION: Notice.

SUMMARY: As authorized by the Consolidated Appropriations Act of 2018, the National Park Service announces that the Secretary of the Interior has established, in the State of Missouri, Ste. Genevieve National Historical Park, as a unit of the National Park System.

FOR FURTHER INFORMATION CONTACT: Tokey Boswell, Midwest Regional Office, at (402) 661-1534.

SUPPLEMENTARY INFORMATION: Section 101 of the Consolidated Appropriations Act of 2018 incorporated by reference Section 7134 of S.1460 Energy and Natural Resources Act of 2017. This act includes specific provisions relating to establishment of Ste. Genevieve National Historical Park as a unit of the National Park System. To establish the historical park, the Secretary must determine that sufficient land has been acquired to constitute a manageable park unit; and enter into a written agreement providing that land owned by the State, the City of Ste. Genevieve, or other entity within the Historic District shall be managed consistent with the purposes of the establishing legislation.

The Federal Government now owns, in fee simple title, two historic buildings and their associated property. The first property was donated by the State of Missouri on March 14, 2019. On January 30, 2020, the Society of Colonial Dames in America, Missouri Chapter donated the Jean Baptiste-Valle home to add to the site. In July of 2020, the State of Missouri signed transfer agreements for multiple parcels of land and two buildings within the boundary of the park that total an additional 10.54 acres. The National Park Service is currently performing the due diligence to acquire these properties. There are also four other individual properties totaling approximately 1.09 acres with signed letters of intent to sell or donate. In total, these parcels constitute sufficient lands to constitute a manageable unit of the National Park System.

The Secretary, through the National Park Service, has also entered into written agreements on August 31, 2018, with the City of Ste. Genevieve, the State of Missouri Department of Natural Resources, Ste. Genevieve County, the Foundation for the Restoration of Ste. Genevieve, the Society of Colonial Dames in America, Missouri Chapter, and Chaumette, Inc., providing that land and properties owned by those entities shall be managed consistent with the purposes of the establishing legislation.

On August 26, 2020, the National Park Service entered into a second agreement with the City of Ste. Genevieve to operate out of the City's existing welcome center.

On October 30, 2020, the Secretary of the Interior signed a Decision Memorandum determining that sufficient lands and agreements have been acquired to constitute a manageable park unit. With the signing of this Decision Memorandum by the Secretary, the site to be known as the “Ste. Genevieve National Historical Park” was established as a unit of the National Park System, effective October 30, 2020, and is subject to all laws, regulations, and policies pertaining to such units.

Margaret Everson,
Counselor to the Secretary, Exercising the Delegated Authority of the Director, National Park Service.

[FR Doc. 2020-26694 Filed 12-3-20; 8:45 am]

BILLING CODE 4312-52-P